DEPARTMENT OF HEALTH AND HUMAN SERVICES

“Partnering to Prevent Hypoglycemia” Listening Session

AGENCY: Office of Disease Prevention and Health Promotion, Office of the Secretary, U.S. Department of Health and Human Services.

ACTION: Notice.

SUMMARY: The Office of Disease Prevention and Health Promotion (ODPHP) is hosting a listening session titled, “Partnering to Prevent Hypoglycemia.” The purpose of this listening session is to exchange information about the public health importance of hypoglycemia, and discuss federal efforts to reduce preventable hypoglycemia from diabetes medications. The Department of Health and Human Services invites public and private professionals, organizations, and consumer representatives to register to attend this listening session at https://health.gov/news/.

DATES: The public listening session will be held on November 1, 2017, from 9:00 a.m. to 4:00 p.m. EDT.

ADDRESSES: The meeting will only be accessible by attendance in-person. For in-person participants, the meeting will take place in the Hubert H. Humphrey Building, Room 800, 200 Independence Ave. SW., Washington, DC 20201.

FOR FURTHER INFORMATION CONTACT: Ndome Essoka, Health Policy Fellow, Office of Disease Prevention and Health Promotion, Office of the Assistant Secretary for Health, U.S. Department of Health and Human Services, 1101 Wootton Parkway, Suite LL100, Rockville, MD 20852, phone: 240-453-8217, email: ndome.essoka@hhs.gov or OHQ@hhs.gov (please indicate in the subject line: Partnering to Prevent Hypoglycemia).

SUPPLEMENTARY INFORMATION: In September 2012, in response to heightened awareness of the contribution of adverse drug events (ADEs) to the burden of health care-related harm and costs, the Office of the Assistant Secretary for Health (OASH) marshaled the wide-ranging and diverse resources of federal partners to form an extensive interagency partnership, the Federal Interagency Steering Committee and Workgroups for Adverse Drug Events, whose goals would be to develop the ADE Action Plan, as well as identify measures to track national progress in reducing ADEs and targets to meet based on those measures.

ODPHP, in conjunction with the Federal Interagency Steering Committee and three Federal Interagency Workgroups, developed and released the final ADE Action Plan in 2014. The ADE Action Plan seeks to engage all stakeholders in coordinated efforts to reduce ADEs that are not only clinically significant but largely preventable. Inpatient and outpatient use of anticoagulants, diabetes agents, and opioid analgesics (with specific focus on ADEs from therapeutic use of opioids) contribute to the reason why ADEs account for the greatest number of measurable harms. The ADE Action Plan identifies the federal government's highest priority strategies and opportunities for advancement, which will have the greatest impact on reducing ADEs. Implementation of these strategies is expected to result in safer and higher quality health care services, reduced health care costs, informed and engaged consumers and, ultimately, improved health outcomes. For more information on the ADE Action Plan, visit https://health.gov/hcq/ade-action-plan.asp.

Purpose of the Meeting: ODPHP is hosting a listening session titled, “Reducing Preventable Hypoglycemia.” The purpose of this listening session is to exchange information about the public health importance of hypoglycemia, and discuss federal efforts to reduce preventable hypoglycemia from diabetes medications. This information may assist ODPHP and federal partners in identifying how patients and providers are affected by hypoglycemia, where gaps in knowledge exist, and how information can be better disseminated.

Meeting Registration: There is no registration fee to attend the public listening session. Early registration is recommended because seating is limited, and registration will be on a first-come, first-served basis. There will be no onsite registration. Persons interested in attending this listening session must register online at https://health.gov/news/. For those without Internet access, please contact Ndome Essoka (see FOR FURTHER INFORMATION CONTACT) to register. If you need special accommodations due to a disability, please contact Ndome Essoka at least seven days in advance.

Dated: September 29, 2017.
Don Wright,
Deputy Assistant Secretary for Health (Disease Prevention and Health Promotion).

[FR Doc. 2017-21503 Filed 10-4-17; 8:45 am]

BILLING CODE 4150-32-P